DEPARTMENT OF COMMERCE

National Oceanic and Atmospheric Administration

RIN 0648-XA136

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Process Improvement Committee (PIC) will hold a working meeting, which is open to the public.

DATES: The PIC meeting will be held Thursday, February 3, 2011 from 8:30 a.m. until business for the day is completed. The PIC meeting will reconvene Friday, February 4, from 8:30 a.m. until noon.

ADDRESSES: The PIC meeting will be held at the Pacific Fishery Management Council office, Large Conference Room, 7700 NE Ambassador Place, Suite 101, Portland, Oregon 97220-1384.

Council address: Pacific Fishery Management Council, 7700 NE Ambassador Place, Suite 101, Portland, OR 97220-1384.

FOR FURTHER INFORMATION CONTACT: Ms. Kelly Ames or Mr. John DeVore, Groundfish Management Staff Officers; telephone: (503) 820-2280.

SUPPLEMENTARY INFORMATION: The purpose of the PIC work session is to develop an optimum detailed process and schedule for the 2013-14 groundfish biennial cycle for harvest specifications and management measures. The PIC will also consider whether an amendment to the Groundfish Fishery Management Plan should be pursued by the Council for long-term solutions. The PIC recommendations will be brought forward for Council consideration and action at its April 9-14 meeting in San Mateo, CA. The PIC may also address other assignments relating to groundfish management. No management actions will be decided by the PIC.

Although non-emergency issues not contained in the meeting agenda may come before the PIC for discussion, those issues may not be the subject of formal PIC action during this meeting. PIC action will be restricted to those issues specifically listed in this notice and any issues arising after publication of this notice that require emergency action under Section 305(c) of the Magnuson-Stevens Fishery Conservation and Management Act, provided the public has been notified of the PIC's intent to take final action to address the emergency.

Special Accommodations

This meeting is physically accessible to people with disabilities. Requests for sign language interpretation or other auxiliary aids should be directed to Mr. Kris Kleinschmidt at (503) 820-2280 at least 5 days prior to the meeting date.

Dated: January 7, 2011.
Tracey L. Thompson,
Acting Director, Office of Sustainable Fisheries, National Marine Fisheries Service.

[FR Doc. 2011-519 Filed 1-11-11; 8:45 am]

BILLING CODE 3510-22-P